DEPARTMENT OF DEFENSE

Office of the Secretary

[Docket ID: DOD-2012-OS-0086]

Privacy Act of 1974; System of Records

AGENCY: Defense Information Systems Agency, DoD.

ACTION: Notice to Add a New System of Records.

SUMMARY: The Defense Information Systems Agency proposes to add a new system of records in its inventory of record systems subject to the Privacy Act of 1974 (5 U.S.C. 552a), as amended. The blanket (k)(1) exemption applies to this system of records to accurately describe the basis for exempting disclosure of classified information that is or may be contained in the records.

DATES: This proposed action will be effective on August 10, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301) 225-8158.

SUPPLEMENTARY INFORMATION: The Defense Information Systems Agency notices for systems of records subject to the Privacy Act of 1974 (5 U.S.C. 552a(r)), as amended, have been published in the Federal Register and are available from the address in FOR FURTHER INFORMATION CONTACT. The proposed system report, as required by 5 U.S.C. 552a(r) of the Privacy Act of 1974, as amended, was submitted on June 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 5, 2012.
Aaron Siegel,
Alternate OSD Federal Register Liaison Officer, Department of Defense.

K890.18

System name:

Contract Support System (CSS).

System location:

DISA Defense Enterprise Computer Center (DECC-OKC), 8705 Industrial Boulevard, Building 3900, Tinker AFB, OK 73145-2713.

Categories of individuals covered by the system:

Customer and Vendor Point of Contact (POC) is accessed only by the Federal/DoD Government contracting officials for contracting purposes.

Categories of records in the system:

Information collected and nature are defined in the following two categories:

(1) Vendor Data: Vendor POC name, vendor company name, company business size, company Dun & Bradstreet Number, company Tax Identification Number, company set aside type, company HUBZone preference, company ethnic group and company U.S. Business and Women-Owned Business Identifier, vendor work address, vendor POC work phone, and vendor POC work email. Information is used to track the POC at the vendor's organization pertaining to specific contracts awarded by Procurement and Logistics Directorate/Defense Information Technology Contracting Organization (PLD/DITCO).

(2) Customer Data: Customer name, agency/organization, street address, office code, phone number and email address is stored in relation to contracts that have been awarded for them by PLD/DITCO. The system also collects the training dates for those customers that have been designated Contracting Officer Representatives (COR) or Task Monitors (TM).

Authority for maintenance of the system:

5 U.S.C. 301, Departmental Regulations; Public Law 106-229, Electronic Signatures in Global and National Commerce Act; Presidential Directive on Electronic Commerce, July 1, 1997; OASD(C3I) Policy Memorandum dated August 12, 2000, subject: Department of Defense (DoD) Public Key Infrastructure (PKI) and, OASD(C3I) Memorandum dated Jan 2001, subject: Common Access Card (CAC), and Government Paperwork Elimination Act.

Purpose(s):

CSS is a client-server application used by PLD/DITCO contracting specialists, contracting officers, budget analysts and managers to enter procurement, funding, contractor and user information. CSS provides standard reporting, ad-hoc reporting and tracking capability of procurement, funding, contractor and user information via central Oracle database storage & retrieval of said information.

Routine uses of records maintained in the system, including categories of users and the purposes of such uses:

In addition to those disclosures generally permitted under 5 U.S.C. 552a(b) of the Privacy Act of 1974, these records may be specifically disclosed outside the DoD as a routine use pursuant to 5 U.S.C. 552a(b)(3) as follows:

The DoD `Blanket Routine Uses' set forth at the beginning of NGA's compilation of systems of records notices may also apply to this system.

Policies and practices for storing, retrieving, accessing, retaining, and disposing of records in the system:

Storage:

Electronic storage media.

Retrievability:

Retrieved by name.

Safeguards:

Records are maintained in a controlled facility. Physical entry is restricted by the use of locks, guards, and is accessible only to authorized personnel. Access to records is limited to person(s) responsible for servicing the record in performance of their official duties and who are properly screened and cleared for need-to-know. Access to computerized data is restricted by Common Access Card (CAC) and/or passwords which are changed periodically. Additionally, users receive training and awareness notices on the proper marking of sensitive information. Host Based Security System (HBSS) is operational and provides mechanisms to protect, detect, track, and report malicious computer-related activities in near real-time.

Retention and disposal:

Disposition pending (until the National Archives and Records Administration approves retention and disposal schedule, records will be treated as permanent).

System manager(s) and address:

CSS Program Manager/Technical Manager: 2300 East Drive, Scott Air Force Base, IL 62225-5406.

Notification procedure:

Individuals seeking to determine whether information about themselves is contained in this system of records should address written inquiries to the DITCO FOIA Officer, 2300 East Drive, Scott Air Force Base, IL 62225-5406.

Requests must include the individual's full name, rank, grade or title, component affiliation, work email address, telephone number, assigned office or unit, complete mailing address, and specific contract number and name of Vendor awarded the contract.

Record access procedures:

Individuals seeking access to information about themselves contained in this system of records should address written inquiries to the DITCO FOIA Officer, located at 2300 East Drive, Scott Air Force Base, IL 62225-5406.

Requests must include the individual's full name, rank, grade or title, component affiliation, work email address, telephone number, assigned office or unit, complete mailing address, and specific contract number and name of Vendor awarded the contract.

Contesting record procedures:

DISA's rules for accessing records, for contesting contents and appealing initial agency determinations are published in DISA Instruction 210-225-2; 32 CFR part 316; or may be obtained from the system manager.

Record source categories:

Vendor POC data obtained and manually entered by contracting officials and system administrators. The source of verification of the data is the Central Contractor Registration (CCR). The information source for the federal customer information comes directly from the customer and is entered by contracting officers/specialists and system administrators.

Exemptions claimed for the system:

An exemption rule for this system has been promulgated in accordance with requirements of 5 U.S.C. 553(b)(1), (2), and (3), and published in 32 CFR part 316. For additional information contact the system manager.

[FR Doc. 2012-16873 Filed 7-10-12; 8:45 am]

BILLING CODE 5001-06-P